DEPARTMENT OF ENERGY

Federal Energy Regulatory Commission

18 CFR Parts 35 and 37

[Docket Nos. RM05-25-000 and RM05-17-000]

Preventing Undue Discrimination and Preference in Transmission Service

September 28, 2006.

AGENCY: Federal Energy Regulatory Commission, DOE.

ACTION: Proposed rule: notice of agenda for technical conference.

SUMMARY: Commission staff proposes to convene a technical conference to discuss issues raised in the Notice of Proposed Rulemaking (NOPR) issued in this proceeding. Preventing Undue Discrimination and Preference in Transmission Service, 71 FR 32636 (June 6, 2006). This notice establishes the agenda and procedures for the technical conference to be held on Thursday, October 12, 2006, from 9 a.m. to 4 p.m. (EDT) at the Federal Energy Regulatory Commission, 888 First Street, NE., Washington, DC 20426, in the Commission Meeting Room. All interested persons are invited to attend, and registration is not required. This will be a staff conference, but Commissioners may attend.

DATES: Commission staff will hold a technical conference on October 12, 2006.

FOR FURTHER INFORMATION CONTACT: Daniel Hedberg, Office of Energy Markets and Reliability, Federal Energy Regulatory Commission, 888 First Street, NE., Washington, DC 20426, (202) 502-6243, daniel.hedberg@ferc.gov or Kathleen Barrón, Office of the General Counsel—Energy Markets, Federal Energy Regulatory Commission, 888 First Street, NE., Washington, DC 20426, (202) 502-6461, kathleen.barron@ferc.gov.

SUPPLEMENTARY INFORMATION:

Notice of Agenda and Procedures for Technical Conference

This notice establishes the agenda and procedures for the technical conference to be held on Thursday, October 12, 2006, to discuss issues raised in the Notice of Proposed Rulemaking (NOPR) issued in this proceeding. Preventing Undue Discrimination and Preference in Transmission Service, 71 FR 32636 (June 6, 2006), FERC Stats. & Regs. ¶ 32603 (2006). The technical conference will be held from 9 a.m. to 4 p.m. (EDT) at the Federal Energy Regulatory Commission, 888 First Street, NE., Washington, DC 20426, in the Commission Meeting Room.¹ All interested persons are invited to attend, and registration is not required. This will be a staff conference, but Commissioners may attend.

¹ The initial notice setting the date of this technical conference was issued on September 7, 2006. 71 FR 54053 (2006).

The agenda for this conference is attached. In order to allot sufficient time for questions and responses, each speaker will be provided with five minutes for prepared remarks. Due to the limitation of time, slides and graphic displays (i.e, PowerPoint ® presentations) will not be permitted during the conference. Presenters who want to distribute copies of their prepared remarks or handouts should bring 100 double-sided copies to the technical conference. Presenters who wish to include comments, presentations, or handouts in the record for this proceeding should file their comments with the Commission. Comments may either be filed on paper or electronically via the eFiling link on the Commission's Web site at http://www.ferc.gov.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. Visit http://www.CapitolConnection.org or contact Danelle Perkowski or David Reininger at the Capitol Connection at 703-993-3100 for information about this service.

Commission conferences are accessible under section 508 of the Rehabilitation Act of 1973. For accessibility accommodations please send an e-mail to accessibility@ferc.gov or call toll free 1-866-208-3372 (voice) or 202-208-1659 (TTY), or send a fax to 202-208-2106 with the required accommodations.

For more information about this conference, please contact: Daniel Hedberg, Office of Energy Markets and Reliability, Federal Energy Regulatory Commission, 888 First Street, NE., Washington, DC 20426, (202) 502-6243, daniel.hedberg@ferc.gov or Kathleen Barrón, Office of the General Counsel—Energy Markets, Federal Energy Regulatory Commission, 888 First Street, NE., Washington, DC 20426, (202) 502-6461, kathleen.barron@ferc.gov.

Magalie R. Salas,
Secretary.

Agenda for OATT Reform Technical Conference, October 12, 2006

9 a.m.-9:15 a.m.—Opening Comments and Introductions.

9:15 a.m.-11:45 a.m.—Issues Relating to Coordinated, Open and Transparent Transmission Planning.

• Presentations by Panelists:

Verne Ingersoll, Director of Regional Planning, System Planning & Operations Department, Progress Energy, Inc.

Sandra Johnson, Director, Transmission Asset Management, Xcel Energy, Inc.

Jay Loock, Director, Technical Services, Western Electricity Coordinating Council.

Pete Wybierala, Director, Transmission Planning, NRG Energy, Inc. On behalf of the Electric Power Supply Association (EPSA).

James Yancey Kerr, II, Commissioner, North Carolina Utilities Commission; First Vice President, National Association of Regulatory Utility Commissioners (NARUC); Member, NARUC Electricity Committee.

Michael J. Kormos, Senior Vice President, Reliability Services, PJM Interconnection L.L.C.

Joel deJesus, Assistant General Counsel, National Grid.

Terry J. Wolf, Manager of Transmission Services, Missouri River Energy Services, on behalf of Transmission Access Policy Study Group (TAPS).

Will Kaul, Vice President, Transmission, Great River Energy, on behalf of National Rural Electric Cooperative Association (NRECA).

• Panel discussion topics include related issues raised in the NOPR, as well as the following:

1. What is the appropriate geographic scope for an effective planning region or subregion?

2. Are there specific criteria that can be developed to define the scope and frequency of the congestion studies proposed in the NOPR?

3. Is an independent consultant necessary to facilitate planning?

4. What are some effective mechanisms for safeguarding confidentiality while permitting meaningful access to transmission information?

5. How should the planning obligation be coordinated with state processes?

6. If an open season requirement is added for large new transmission projects, what conditions or limitations should be associated with it?

7. Can the proposed regional planning requirement achieve its goals if the participants in the regional planning process have not achieved agreement among themselves on appropriate cost-allocation issues? If not, what can be done to encourage the development of such cost allocation agreements among regional planning participants?

8. What is the appropriate role for demand response in planning?

11:45 a.m.-12:30 p.m.—Lunch.

12:30 p.m.-1:45 p.m.—Discussion of ATC-related Reforms.

• Presentations by Panelists:

William (Bill) Lohrman, Managing Director, Prague Power, LLC, on Behalf of North American Electric Reliability Council (NERC).

Rae McQuade, President, North American Energy Standards Board (NAESB).

Steven Naumann, Vice President, Wholesale Market Development, Exelon Corporation, on behalf of Edison Electric Institute (EEI).

Michael Smith, Vice President, Regulatory and Legislative Affairs, Constellation Energy Commodities Group.

Edward N. (Nick) Henery, Director of Reliability, American Public Power Association (APPA).

Jerry Smith, Alliance Partnership Manager, Arizona Public Service.

• Panel discussion topics include related issues raised in the NOPR, as well as the following:

1. What are the challenges that NERC/NAESB and the industry face in the effort to enhance the consistency of certain definitions, data, modeling assumptions and components of the ATC calculation? Which of these elements are most critical to make consistent? Is a focus on comparability of ATC calculation and transparency more important than consistency of ATC calculation?

2. What is a reasonable timeline to achieve the consistency goal?

3. Are there common standards and modeling assumptions that can be developed to calculate TRM and CBM?

4. What are the most critical data to be exchanged among transmission providers to ensure that all are performing ATC calculations most accurately? How should that data be exchanged, what protocols should be used, and what forum should develop the protocols?

5. What is the most important data to make transparent? Regarding the Commission's proposal to require a narrative explanation for changes in monthly or yearly ATC, are there modifications that would achieve the Commission's transparency goals without imposing an undue burden on transmission providers? What ATC information posted in narrative form will be most beneficial?

6. Regarding the proposal to enhance OASIS postings, what are some industry tools/best practices that can be utilized to assist with this effort?

1:45 p.m.-2 p.m.—Break.

2 p.m.-4 p.m.—The Commission's Proposals Regarding Redispatch and Conditional Firm Service.

• Presentations by Panelists (* Tentative Panelist):

Don Furman, PPM Energy, on behalf of American Wind Energy Association (AWEA).

Patricia Alexander, Consultant/Energy, Dickstein Shapiro LLP, on Behalf of Electric Power Supply Association (EPSA).

John Lucas, Transmission Services Director, Southern Company Services, Inc.

Lauren Nichols-Kinas, Bonneville Power Administration (BPA).

Anthony Taylor, Director of Transmission, Williams Power Company, Inc.

*Natalie McIntire, Senior Policy Associate, Renewable Northwest Project.

• Panel discussion topics include related issues raised in the NOPR, as well as the following:

1. Are there improvements to the revised redispatch provision in the pro forma OATT (section 13.5) that are necessary to facilitate redispatch?

2. Would customers be willing to pay for the actual costs of redispatch in addition to the embedded costs of transmission to secure previously unavailable long-term transmission rights? How can the Commission best remove discretion in calculating these costs and create a method for verifying them?

3. What tools are available to allow redispatch to occur using resources other than those owned by the transmission provider?

4. Should curtailments under conditional firm service be specified based on a number of hours per month, when certain transmission constraints or elements bind, when certain load levels are present, or some other factor? How would these different methods be studied and implemented? Which method is preferable from the perspective of the potential conditional firm transmission customers, the network customers and the transmission providers?

5. What curtailment priority should be assigned to conditional firm service? Would this require changes to NERC curtailment protocols? How should changes between firm and non-firm service be handled in real-time systems? Would changes need to be made to e-tags or OASIS?

6. Should conditional firm service be offered indefinitely, or only as a bridge product until transmission upgrades are complete?

[FR Doc. E6-16442 Filed 10-4-06; 8:45 am]

BILLING CODE 6717-01-P